NUCLEAR REGULATORY COMMISSION

[NRC-2020-0001]

Sunshine Act Meetings

TIME AND DATE: Week of April 20, 2020.

PLACE: Commissioners' Conference Room, 11555 Rockville Pike, Rockville, Maryland.

STATUS: Via Teleconference.

Week of April 20, 2020

Thursday, April 23, 2020

11:00 a.m. Affirmation Session (Public Meeting via Teleconference) (Tentative)

a. Florida Power & Light Co. (Turkey Point Nuclear Generating Units 3 and 4)—Referred Ruling in LBP-19-3 and FPL's Appeal of LPB-19-3 (Tentative)

b. Direct Final Rule—Social Security Number Fraud Prevention (NRC-2018-0303; RIN 3150-AK27) (Tentative)

c. Holtec International (HI-STORE Consolidated Interim Storage Facility), Appeals of LBP-19-4; Motions for New Contentions (Tentative)

d. FirstEnergy Nuclear Operating Co. and FirstEnergy Nuclear Generation, LLC (Beaver Valley Power Station, Units 1 and 2; Davis-Besse Nuclear Power Station, Unit 1; Perry Nuclear Power Plant, Unit 1), Request for Hearing in License Transfer Proceeding (Tentative)

(Contact: Denise McGovern: 301-415-0681)

ADDITIONAL INFORMATION: By a vote of 4-0 on April 20, 21, and 22, 2020, the Commission determined pursuant to U.S.C. 552b(e) and '9.107(a) of the Commission's rules that the above referenced Affirmation Session be held with less than one week notice to the public. The meeting is scheduled on April 23, 2020 and will be held via teleconference. Details for joining the teleconference in listen only mode can be found at https://www.nrc.gov/pmns/mtg.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov or Tyesha.Bush@nrc.gov.

The NRC is holding the meetings under the authority of the Government in the Sunshine Act, 5 U.S.C. 552b.

Dated: April 22, 2020.
For the Nuclear Regulatory Commission.
Denise L. McGovern,
Policy Coordinator, Office of the Secretary.

[FR Doc. 2020-08892 Filed 4-22-20; 4:15 pm]

BILLING CODE 7590-01-P